DEPARTMENT OF ENERGY

Federal Energy Regulatory Commission

Notice of Application for Amendment of License and Soliciting Comments, Motions To Intervene, and Protests

December 7, 2000.

Take notice that the following hydroelectric application has been filed with the Commission and is available for public inspection:

a. Application Type: Amendment of License.

b. Project No: 11175-008.

c. Date Filed: October 30, 2000.

d. Applicant: Crown Hydro Company.

e. Name of Project: Crown Mill.

f. Location: The project is located on the Mississippi River in the City of Minneapolis, Hennepin County, Minnesota. The project occupies 0.5 acres of lands of the United States under the jurisdiction of the U.S. Army Corps of Engineers.

g. Filed Pursuant to: Federal Power Act, 16 U.S.C. 791(a)-825(r).

h. Applicant Contact: Thomas R. Griffin, 5436 Columbus Avenue South, Minneapolis, Minnesota 55417 (612) 825-1043.

i. FERC Contact: Any questions on this notice should be addressed to Dave Snyder at (202) 219-2385.

j. Deadline for filing comments and or motions: January 12, 2001.

All documents (original and eight copies) should be filed with: David P. Boergers, Secretary, Federal Energy Regulatory Commission, 888 First Street, NE., Washington, DC 20426.

Please include the Project Number (11175-008) on any comments or motions filed.

k. Description of Filing: Crown Hydro requests deletion of article 402 of the license for the Crown Mill Project No. 11175. Article 402 requires Crown Hydro to file for approval a plan to construct a pedestrian walkway and bridge in the project tailrace area and excavate a historic turbine and move it to a public area for viewing. Crown Hydro reports that the state grant (to be equally matched by the license) is no longer available.

l. Locations of the Application: A copy of the application for inspection and reproduction at the Commission's Public Reference Room, located at 888 First Street, NE., Room 2A, Washington, DC 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Comments and protests may be filed electronically via the internet in lieu of paper. See, 18 CFR 385.2001(a)(1)(iii) and the instructions on the Commissioin's web site at http://www.ferc.fed.us/efi/doorbell.htm

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-31864 Filed 12-13-00; 8:45 am]

BILLING CODE 6717-01-M